DEPARTMENT OF THE TREASURY

Office of the Comptroller of the Currency

Agency Information Collection Requirements; Information Collection Renewals; Submission for OMB Review; Request for a Religious Exception to the COVID-19 Vaccine Requirement; and Request for a Medical Exception to the COVID-19 Vaccine Requirement

AGENCY: Office of the Comptroller of the Currency (OCC), Treasury.

ACTION: Notice and requests for comment.

SUMMARY: The OCC, as part of its continuing effort to reduce paperwork and respondent burden, invites the general public and other Federal agencies to take this opportunity to comment on the renewal of two information collections as required by the Paperwork Reduction Act of 1995 (PRA). In accordance with the requirements of the PRA, the OCC may not conduct or sponsor, and the respondent is not required to respond to, an information collection unless it displays a currently valid Office of Management and Budget (OMB) control number. The OCC is soliciting comment concerning the renewal of its information collections titled, “Request for a Religious Exception to the COVID-19 Vaccine Requirement;” and “Request for a Medical Exception to the COVID-19 Vaccine Requirement.” The OCC is also giving notice that it has sent the collection to OMB for review.

DATES: You should submit written comments by April 28, 2022.

ADDRESSES: Commenters are encouraged to submit comments by email, if possible. You may submit comments by any of the following methods:

• Email: prainfo@occ.treas.gov.

• Mail: Chief Counsel's Office, Attention: Comment Processing, 1557-0352 or 1557-0353, Office of the Comptroller of the Currency, 400 7th Street SW, Suite 3E-218, Washington, DC 20219.

• Hand Delivery/Courier: 400 7th Street SW, Suite 3E-218, Washington, DC 20219.

• Fax: (571) 465-4326.

Instructions: You must include “OCC” as the agency name and “1557-0352 or “1557-0353” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. Find this particular information collection by selecting “Currently under 30-day Review—Open for Public Comments” or by using the search function.

On January 18, 2022, the OCC published a 60-day notice for this information collection, 87 FR 2669. You may review comments and other related materials that pertain to this information collection following the close of the 30-day comment period for this notice by the method set forth in the next bullet.

• Viewing Comments Electronically: Go to www.reginfo.gov. Hover over the “Information Collection Review” tab and click on “Information Collection Review” drop-down menu. From the “Currently under Review” drop-down menu, select “Department of Treasury” and then click “submit.” This information collection can be located by searching by OMB control number “1557-0352” or “1557-0353”or “Request for a Religious Exception to the COVID-19 Vaccine Requirement;” and “Request for a Medical Exception to the COVID-19 Vaccine Requirement.”. Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 649-5490, Chief Counsel's Office, Office of the Comptroller of the Currency, 400 7th Street SW, Suite 3E-218, Washington, DC 20219. If you are deaf, hard of hearing, or have a speech disability, please dial 7-1-1 to access telecommunications relay services.

SUPPLEMENTARY INFORMATION: Under the PRA (44 U.S.C. 3501-3520), Federal agencies must obtain approval from the Office of Management and Budget (OMB) for each collection of information that they conduct or sponsor. “Collection of information” is defined in 44 U.S.C. 3502(3) and 5 CFR 1320.3(c) to include agency requests or requirements that members of the public submit reports, keep records, or provide information to a third party. The OCC requests that OMB extend its approval of the emergency approvals for the collections in this notice.

Title: Request for a Religious Exception to the COVID-19 Vaccine Requirement.

OMB Control No.: 1557-0353.

Title: Request for a Medical Exception to the COVID-19 Vaccine Requirement.

OMB Control No.: 1557-0352.

Abstract: The President, by Executive order 13991 (January 20, 2021) established the Safer Federal Workforce Task Force. The Taskforce was established to give the heads of Federal agencies ongoing guidance to keep their employees safe and their agencies operating during the COVID-19 pandemic. The Taskforce issued guidance, in accordance with the President's Executive Order 14043 (September 9, 2021), requiring federal employees to be vaccinated against COVID-19 by November 22, 2021 absent a legally required exception. To determine whether employees who requested a religious or medical exception qualified for the exception sought, or, alternatively, were required to comply with the November 22 deadline, the OCC developed the “Request for Religious Exception to the COVID-19 Vaccination Requirement Form” and the “Request for Medical Exception to the COVID-19 Vaccination Requirement Form” (collectively, Request forms). The Request forms were developed, consistent with guidance issued by the Task force and the U.S. Department of Treasury's Office of Civil Rights and Diversity, to gather information from employees and applicants for employment who requested religious or medical exceptions to determine whether such employees qualified for legal exceptions to the vaccine requirement. The Request forms also were used to collect information from job applicants who requested a legal exception upon receiving an offer of employment from the OCC.

To ensure compliance with an applicable preliminary nationwide injunction, which may be supplemented, modified, or vacated, depending on the course of ongoing litigation, Office of the Comptroller of the Currency will take no action to implement or enforce the COVID-19 vaccination requirement pursuant to Executive Order 14043 on Requiring Coronavirus Disease 2019 Vaccination for Federal Employees while the injunction is in effect.

Type of Review: Extension, without change, of a currently approved collection.

Affected Public: Businesses or other for-profit; individuals.

Religious Exception:

Estimated Number of Respondents: 4 Job Applicants.

Estimated Burden per Respondent: 0.50 hours.

Total Burden: 2 hours.

Medical Exception:

Estimated Number of Respondents: 2 Job Applicants; 66 Medical Professionals.

Estimated Burden per Respondent: 0.25 hours for Job Applicants; 0.50 hours for Medical Professionals.

Total Burden: 33.5 hours.

On January 18, 2022, the OCC published a 60-day notice for this information collection, 87 FR 2669. No comments were received. Comments continue to be invited on:

(a) Whether the collections of information are necessary for the proper performance of the functions of the agency, including whether the information has practical utility;

(b) The accuracy of the agency's estimates of the burden of the collections of information;

(c) Ways to enhance the quality, utility, and clarity of the information to be collected;

(d) Ways to minimize the burden of the collections on respondents, including through the use of automated collection techniques or other forms of information technology; and

(e) Estimates of capital or start-up costs and costs of operation, maintenance, and purchase of services to provide information.

A Notice Regarding Injunctions

The vaccination requirement issued pursuant to E.O. 14043, is currently the subject of a nationwide injunction. While that injunction remains in place, the OCC will not process requests for a medical or religious exception from the COVID-19 vaccination requirement pursuant to E.O. 14043. The OCC will also not request the submission of any medical or religious information related to a request for an exception from the vaccination requirement pursuant to E.O. 14043 while the injunction remains in place. But the OCC may nevertheless receive information regarding a medical or religious exception. That is because, if the OCC were to receive a request for an exception from the COVID-19 vaccination requirement pursuant to E.O. 14043 during the pendency of the injunction, the OCC will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical or religious exception from the COVID-19 vaccination requirement pursuant to E.O. 14043 is not undertaken to implement or enforce the COVID-19 vaccination requirement.

Theodore J. Dowd,
Deputy Chief Counsel, Office of the Comptroller of the Currency.

[FR Doc. 2022-06537 Filed 3-28-22; 8:45 am]

BILLING CODE 4810-33-P